DEPARTMENT OF ENERGY

Federal Energy Regulatory Commission

Combined Notice of Filings

Take notice that the Commission has received the following Natural Gas Pipeline Rate and Refund Report filings:

Filings Instituting Proceedings

Docket Numbers: PR21-61-000.

Applicants: Whistler Pipeline LLC.

Description: Submits tariff filing per 284.123(b),(e)/: Baseline Refile to be effective 8/1/2021.

Filed Date: 8/26/2021.

Accession Number: 20210826-5092.

Comment Date/Protest Due: 5 p.m. 9/16/21.

Docket Numbers: RP21-1050-000.

Applicants: Transcontinental Gas Pipe Line Company, LLC.

Description: Compliance filing: Rate Schedule S-2 OFO Penalty Flow Through Refund to be effective N/A.

Filed Date: 8/26/21.

Accession Number: 20210826-5021.

Comment Date: 5 p.m. ET 9/7/21.

Docket Numbers: RP21-1051-000.

Applicants: Kern River Gas Transmission Company.

Description: § 4(d) Rate Filing: 2021 Desert Peak Delivery Meter to be effective 10/1/2021.

Filed Date: 8/26/21.

Accession Number: 20210826-5070.

Comment Date: 5 p.m. ET 9/7/21.

Docket Numbers: RP21-1052-000.

Applicants: Transcontinental Gas Pipe Line Company, LLC.

Description: § 4(d) Rate Filing: Negotiated Rates—FTNP—Northeast Energy Associates to be effective 9/1/2021.

Filed Date: 8/26/21.

Accession Number: 20210826-5098.

Comment Date: 5 p.m. ET 9/7/21.

Docket Numbers: RP21-1053-000.

Applicants: Columbia Gulf Transmission, LLC.

Description: Compliance filing: CGT Cashout Report 2021 to be effective N/A.

Filed Date: 8/27/21.

Accession Number: 20210827-5056.

Comment Date: 5 p.m. ET 9/8/21.

Docket Numbers: RP21-1054-000.

Applicants: Tennessee Gas Pipeline Company, L.L.C.

Description: § 4(d) Rate Filing: Volume No. 2—EQT Energy, LLC SP369939 to be effective 9/1/2021.

Filed Date: 8/27/21.

Accession Number: 20210827-5057.

Comment Date: 5 p.m. ET 9/8/21.

The filings are accessible in the Commission's eLibrary system (https://elibrary.ferc.gov/idmws/search/fercgensearch.asp) by querying the docket number.

Any person desiring to protest in any the above proceedings must file in accordance with Rule 211 of the Commission's Regulations (18 CFR 385.211) on or before 5:00 p.m. Eastern time on the specified comment date.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 27, 2021.
Debbie-Anne A. Reese,
Deputy Secretary.

[FR Doc. 2021-18996 Filed 9-1-21; 8:45 am]

BILLING CODE 6717-01-P